SMALL BUSINESS ADMINISTRATION

Region IV—North Florida District Advisory Council; Public Meeting

The Small Business Administration Region IV North Florida District Advisory Council, located in the geographical area of Jacksonville, Florida, will hold a public meeting at 11 a.m. Eastern Standard Time on Thursday, January 17, 2002, at the Gainesville Technology Enterprise Center, 2153 Hawthorne Rd, Gainesville, FL 32641, to discuss such matters as may be presented by Advisory Council members, staff of the Small Business Administration, and/or others present.

Anyone wishing to make an oral presentation to the Board must contact Wilfredo J. Gonzalez, District Director, in writing by letter or fax no later than January 10th, 2002, in order to be put on the agenda. Please direct requests to: Wilfredo J. Gonzalez, District Director, U.S. Small Business Administration, North Florida District Office, 7825 Baymeadows Way, Suite 100B, Jacksonville, Florida 32256, (904) 443-1900 phone (904) 443-1980 fax; wilfredo.gonzalez@sba.gov.

FOR FURTHER INFORMATION CONTACT: Lola Kress, U.S. Small Business Administration, 7825 Baymeadows Way, Suite 100-B, Jacksonville, Florida 32256-7504, telephone (904) 443-1933.

Steve Tupper,
Committee Management Officer.

[FR Doc. 01-31650 Filed 12-21-01; 8:45 am]

BILLING CODE 8025-01-P